DEPARTMENT OF ENERGY

Federal Energy Regulatory Commission

Combined Notice of Filings #2

Take notice that the Commission received the following exempt wholesale generator filings:

Docket Numbers: EG14-19-000.

Applicants: Border Winds Energy, LLC.

Description: Self-Certification of EG of Border Winds Energy, LLC.

Filed Date: 12/17/13.

Accession Number: 20131217-5251.

Comments Due: 5 p.m. ET 1/7/14.

Take notice that the Commission received the following electric rate filings:

Docket Numbers: ER10-2531-004.

Applicants: Cedar Creek Wind Energy, LLC.

Description: Updated Market Power Analysis in the Northwest region of Cedar Creek Wind Energy, LLC.

Filed Date: 12/17/13.

Accession Number: 20131217-5134.

Comments Due: 5 p.m. ET 2/18/14.

Docket Numbers: ER14-14-001.

Applicants: NorthWestern Corporation.

Description: NorthWestern Corporation submits Compliance Filing re Revisions to Montana OATT Schedule 3 to be effective 9/27/2013.

Filed Date: 12/17/13.

Accession Number: 20131217-5172.

Comments Due: 5 p.m. ET 1/7/14.

Docket Numbers: ER14-633-000.

Applicants: Florida Power & Light Company.

Description: FPL and City of Lake Worth, FL Original Service Agreement No. 321 to be effective 1/1/2014.

Filed Date: 12/17/13.

Accession Number: 20131217-5001.

Comments Due: 5 p.m. ET 1/7/14.

Docket Numbers: ER14-634-000.

Applicants: Florida Power & Light Company.

Description: FPL and City of Lake Worth, FL Original Rate Schedule FERC No. 322 to be effective 1/1/2014.

Filed Date: 12/17/13.

Accession Number: 20131217-5002.

Comments Due: 5 p.m. ET 1/7/14.

Docket Numbers: ER14-635-000.

Applicants: Deseret Generation & Transmission Co-operative, Inc.

Description: Deseret Generation & Transmission Co-operative, Inc. submits OATT Order No. 784 Compliance Filing to be effective 12/27/2013.

Filed Date: 12/17/13.

Accession Number: 20131217-5168.

Comments Due: 5 p.m. ET 1/7/14.

Docket Numbers: ER14-636-000.

Applicants: Cedar Creek II, LLC.

Description: Cedar Creek II, LLC submits Revised Market-Based Rate Tariff in Compliance with Order No. 784 to be effective 12/18/2013.

Filed Date: 12/17/13.

Accession Number: 20131217-5169.

Comments Due: 5 p.m. ET 1/7/14.

Docket Numbers: ER14-637-000.

Applicants: Goshen Phase II LLC.

Description: Goshen Phase II LLC submits Revised Market-Based Rate Tariff in Compliance with Order No. 784 to be effective 12/18/2013.

Filed Date: 12/17/13.

Accession Number: 20131217-5170.

Comments Due: 5 p.m. ET 1/7/14.

Docket Numbers: ER14-638-000.

Applicants: Southern California Edison Company.

Description: Southern California Edison Company submits Net Energy Metering Program to be effective 2/17/2014.

Filed Date: 12/17/13.

Accession Number: 20131217-5174.

Comments Due: 5 p.m. ET 1/7/14.

Docket Numbers: ER14-639-000.

Applicants: California Independent System Operator Corporation.

Description: California Independent System Operator Corporation submits 2013-12-17_Order784 Compliance to be effective N/A.

Filed Date: 12/17/13.

Accession Number: 20131217-5176.

Comments Due: 5 p.m. ET 1/7/14.

Docket Numbers: ER14-642-000.

Applicants: Northern Indiana Public Service Company.

Description: Northern Indiana Public Service Company submits CIAC Agreement Under Wabash Valley Interconnection Agreement to be effective 12/9/2013.

Filed Date: 12/17/13.

Accession Number: 20131217-5197.

Comments Due: 5 p.m. ET 1/7/14.

Docket Numbers: ER14-643-000.

Applicants: Black Hills/Colorado Electric Utility Co.

Description: Notice of Cancellation of Electric Rate Schedule 66 of Black Hills/Colorado Electric Utility Company, LP.

Filed Date: 12/17/13.

Accession Number: 20131217-5204.

Comments Due: 5 p.m. ET 1/7/14.

Docket Numbers: ER14-644-000.

Applicants: Southwest Power Pool, Inc.

Description: Southwest Power Pool, Inc. submits 1374R16 Kansas Power Pool and Westar Meter Agent Agreement to be effective 12/1/2013.

Filed Date: 12/17/13.

Accession Number: 20131217-5214.

Comments Due: 5 p.m. ET 1/7/14.

Docket Numbers: ER14-645-000.

Applicants: Southwestern Public Service Company.

Description: Southwestern Public Service Company submits 2013-12-17_SPS-GSEC-G-EP-Elk St E&P Agrmt to be effective 12/18/2013.

Filed Date: 12/17/13.

Accession Number: 20131217-5215.

Comments Due: 5 p.m. ET 1/7/14.

Docket Numbers: ER14-646-000.

Applicants: Entergy Arkansas, Inc.

Description: Entergy Arkansas, Inc. submits Transfer Agreement SA # 729 to be effective 1/1/2014.

Filed Date: 12/17/13.

Accession Number: 20131217-5217.

Comments Due: 5 p.m. ET 1/7/14.

Docket Numbers: ER14-647-000.

Applicants: San Diego Gas & Electric Company.

Description: San Diego Gas & Electric Company submits 2014 SDGE TRBAA TACBAA Update to Transmission Owner Tariff Filing to be effective 1/1/2014.

Filed Date: 12/17/13.

Accession Number: 20131217-5228.

Comments Due: 5 p.m. ET 1/7/14.

Docket Numbers: ER14-648-000.

Applicants: Entergy Arkansas, Inc.

Description: Entergy Arkansas, Inc. submits Cancellation of Entergy OATT to be effective 12/19/2013.

Filed Date: 12/17/13.

Accession Number: 20131217-5236.

Comments Due: 5 p.m. ET 1/7/14.

Docket Numbers: ER14-649-000.

Applicants: Entergy Services, Inc., Midcontinent Independent System Operator, Inc.

Description: Entergy Services, Inc. submits 2013-12-16 Entergy Operating Companies Att Os_30.9_41_42A&B to be effective 12/19/2013.

Filed Date: 12/17/13.

Accession Number: 20131217-5235.

Comments Due: 5 p.m. ET 1/7/14.

Take notice that the Commission received the following foreign utility company status filings:

Docket Numbers: FC14-11-000.

Applicants: Des Moulins Wind Power L.P.

Description: Self-Certification of Foreign Utility Company Status of Des Moulins Wind Power L.P.

Filed Date: 12/17/13.

Accession Number: 20131217-5048.

Comments Due: 5 p.m. ET 1/7/14.

Take notice that the Commission received the following PURPA 210(m)(3) filings:

Docket Numbers: QM14-1-000.

Applicants: Fitchburg Gas & Electric Light Company.

Description: Application for Relief from Mandatory Purchase Obligation from An Under 20 MW QF of Fitchburg Gas & Electric Light Company.

Filed Date: 12/17/13.

Accession Number: 20131217-5206.

Comments Due: 5 p.m. ET 1/14/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2013.
Nathaniel J. Davis, Sr.,
Deputy Secretary.

[FR Doc. 2013-30696 Filed 12-24-13; 8:45 am]

BILLING CODE 6717-01-P